DEPARTMENT OF TRANSPORTATION

National Highway Traffic Safety Administration

49 CFR Part 571

[Docket No. NHTSA-2020-0106]

RIN 2127-AM15

Framework for Automated Driving System Safety; Extension of Comment Period

AGENCY: National Highway Traffic Safety Administration (NHTSA), Department of Transportation (DOT).

ACTION: Advanced notice of proposed rulemaking (ANPRM); extension of comment period.

SUMMARY: In response to a request from Venable LLC, NHTSA is announcing a 60-day extension of the comment period on an advance notice of proposed rulemaking (ANPRM) requesting comment on NHTSA's development of a framework for Automated Driving System (ADS) safety. The comment period for the ANPRM was originally scheduled to end on February 1, 2021. It will now end on April 1, 2021.

DATES: The comment period for the “Framework for Automated Driving System Safety” ANPRM, published on December 3, 2020, at 85 FR 78058, is extended to April 1, 2021.

ADDRESSES: Comments must refer to the docket number above and be submitted by one of the following methods:

• Federal eRulemaking Portal: Go to http://www.regulations.gov. Follow the online instructions for submitting comments.

• Mail: Docket Management Facility, M-30, U.S. Department of Transportation, West Building, Ground Floor, Room W12-140, 1200 New Jersey Avenue SE, Washington, DC 20590.

• Hand Delivery or Courier: U.S. Department of Transportation, West Building, Ground Floor, Room W12-140, 1200 New Jersey Avenue SE, Washington, DC, between 9 a.m. and 5 p.m. Eastern time, Monday through Friday, except Federal holidays. To be sure someone is there to help you, please call (202) 366-9332 before coming.

• Fax: 202-493-2251.

Regardless of how you submit your comments, you must include the docket number identified in the heading of this notice.

Note that all comments received, including any personal information provided, will be posted without change to http://www.regulations.gov. Please see the “Privacy Act” heading below.

You may call the Docket Management Facility at 202-366-9322. For access to the docket to read background documents or comments received, go to http://www.regulations.gov or the street address listed above. To be sure someone is there to help you, please call (202) 366-9322 before coming. We will continue to file relevant information in the Docket as it becomes available.

Privacy Act: In accordance with 5 U.S.C. 553(c), DOT solicits comments from the public to inform its decision-making process. DOT posts these comments, without edit, including any personal information the commenter provides, to http://www.regulations.gov, as described in the system of records notice (DOT/ALL-14 FDMS), which can be reviewed at https://www.transportation.gov/privacy. Anyone can search the electronic form of all comments received into any of our dockets by the name of the individual submitting the comment (or signing the comment, if submitted on behalf of an association, business, labor union, etc.).

FOR FURTHER INFORMATION CONTACT: Sara R. Bennett, Attorney-Advisor, Vehicle Rulemaking and Harmonization, Office of Chief Counsel, 202-366-2992, email Sara.Bennett@dot.gov.

SUPPLEMENTARY INFORMATION: On December 3, 2020, NHTSA published an ANPRM to obtain public comments on the development of a framework for Automated Driving System (ADS) safety (85 FR 78058). The framework would objectively define, assess, and manage the safety of ADS performance while ensuring the needed flexibility to enable further innovation. The Agency sought specific feedback on key components that can meet the need for motor vehicle safety while enabling innovative designs, in a manner consistent with Agency authorities. The ANPRM provided a 30-day comment period, which closes on February 1, 2021.

On December 18, 2020, NHTSA received a request from Venable LLP on behalf of the Alliance for Automotive Innovation, American Property Casualty Insurance Association, American Trucking Associations, Motor & Equipment Manufacturers Association, National Automotive Dealers Association, National Association of Mutual Insurance Companies, Self-Driving Coalition for Safer Streets, Truck & Engine Manufacturers Association, and the U.S. Chamber of Commerce, Chamber Technology Engagement Center, (hereinafter “the requestors”), for a 60-day extension of the comment period. The requestors state that the ANPRM raises a substantial number of technical and policy questions that require significant discussion and analysis on the part of their respective members. They suggest that an extension would offer them enough time to consult with and seek input from experts across their businesses about the “many complex issues presented in the ANPRM.” They state that having additional time to engage in such consultations would enable them “to better ensure that the comments they provide to NHTSA reflect the full measure of thought and analysis that is due for this important proceeding.” The request can be found in the docket for the ANPRM identified in the heading of this notice.

In accordance with NHTSA's rulemaking procedures in 49 CFR part 553, subpart B, the Agency is granting the request to extend the comment period 60 days. We have determined that the requestors have shown good cause for an extension, and that the extension is consistent with the public interest (49 CFR 553.19). A 60-day extension appropriately balances NHTSA's interest in providing the public with sufficient time to comment on the complex and novel questions raised in the ANPRM, with its interest in obtaining specific feedback from stakeholders in a timely manner. Accordingly, NHTSA is extending the comment period until April 1, 2021.¹

¹ Readers should note that, even after the comment closing date has passed, interested persons are able to file comments in the docket, which NHTSA will consider to the extent practicable. 49 CFR 553.23. NHTSA may also continue to file relevant information in the docket as it becomes available. Accordingly, the Agency recommends that readers periodically check the docket for new material.

Authority: 49 U.S.C. 322, 30111, 30115, 30117, and 30166; delegation of authority at 49 CFR 1.95 and 49 CFR 501.5.

James C. Owens,
Deputy Administrator.

[FR Doc. 2021-01150 Filed 1-28-21; 8:45 am]

BILLING CODE 4910-59-P